NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: New collection.

2. The title of the information collection: NRC Survey of Public Response to Emergencies.

3. The form number if applicable: N/A.

4. How often the collection is required: This is a one-time collection.

5. Who will be required or asked to report: Members of the public that reside within the 10-mile Emergency Planning Zones (EPZs) of nuclear power plants.

6. An estimate of the number of annual responses: 920 (each respondent will answer one survey).

7. The estimated number of annual respondents: This is a one-time collection of 800 completed surveys.

8. An estimate of the total number of hours needed annually to complete the requirement or request: 210 hours ((800 completed surveys × .25 hours per response = 200 hours) + (120 uncompleted surveys × .083 hours per response = 10 hours)).

9. An indication of whether Section 3507(d), Public Law 104-13 applies: N/A.

10. Abstract: As part of the NRC's effort to review and improve emergency response program areas, the NRC intends to conduct a telephone survey to assess public reaction to existing protective action strategies, new protective action strategies, and the effectiveness in which these strategies are conveyed to the public. The survey will produce statistical descriptions of likely public reaction to and acceptance of various protective action strategies. The targets for the telephone survey are randomly selected members of the public that reside within the 10-mile EPZs around nuclear power plants. This is a nationwide survey of the public residing within EPZs. The response to the surveys will be used by the NRC in the development of enhancements to its guidance for nuclear power plant protective action recommendations and the means by which this information is disseminated. The survey will also improve the understanding of other areas related to protective action implementation, such as the extent of shadow evacuations and the expected usage of congregate care facilities.

A copy of the final supporting statement may be viewed free of charge at the NRC Public Document Room, One White Flint North, 11555 Rockville Pike, Room O-1F21, Rockville, MD 20852. OMB clearance requests are available at the NRC worldwide Web site: http://www.nrc.gov/public-involve/doc-comment/omb/index.html. The document will be available on the NRC home page site for 60 days after the signature date of this notice.

Comments and questions should be directed to the OMB reviewer listed below by December 17, 2007. Comments received after this date will be considered if it is practical to do so, but assurance of consideration cannot be given to comments received after this date. Nathan J. Frey, Office of Information and Regulatory Affairs (3150-XXXX), NEOB-10202, Office of Management and Budget, Washington, DC 20503.

Comments can also be e-mailed to Nathan J. Frey@omb.eop.gov or submitted by telephone at (202) 395-7345.

The NRC Clearance Officer is Margaret A. Janney, 301-415-7245.

Dated at Rockville, Maryland, this 8th day of November, 2007.
For the Nuclear Regulatory Commission.
Margaret A. Janney,
NRC Clearance Officer, Office of Information Services.

[FR Doc. E7-22334 Filed 11-14-07; 8:45 am]

BILLING CODE 7590-01-P